DEPARTMENT OF LABOR

Employment and Training Administration

[TA-W-71,725]

Caterpillar, Inc., Large Power Systems Division, Including On-Site Leased Workers From Gray Interplant Systems, Inc, ATS, URS, River City, GCA, Lozier, Obrien Bros., HK, FCA and Clifton Gunderson, Mossville, IL; Amended Certification Regarding Eligibility To Apply for Worker Adjustment Assistance

In accordance with Section 223 of the Trade Act of 1974, as amended (“Act”), 19 U.S.C. 2273, the Department of Labor issued a Certification of Eligibility to Apply for Worker Adjustment Assistance on November 2, 2009, applicable to Caterpillar, Inc., Large Power Systems Division, Mossville, Illinois. The workers produce on-highway and off-highway diesel engines for commercial trucks. The notice was published in the Federal Register on January 25, 2010 (75 FR 3935).

At the request of the petitioners, the Department reviewed the certification for workers of the subject firm. The company reports that workers leased from Gray Interplant Systems, Inc., ATS, URS, River City, GCA, Lozier, Obrien Bros., HK, FCA, and Clifton Gunderson were employed on-site at the Mossville, Illinois location of Caterpillar, Inc., Large Power Systems Division. The Department has determined that these workers were sufficiently under the control of Caterpillar, Inc., Large Power Systems Division, Mossville, Illinois to be included in this certification.

Based on these findings, the Department is amending this certification to include workers leased from Gray Interplant Systems, Inc., ATS, URS, River City, GCA, Lozier, Obrien Bros., HK, FCA, and Clifton Gunderson working on-site at the Mossville, Illinois location of Caterpillar, Inc., Large Power Systems Division.

The amended notice applicable to TA-W-71,725 is hereby issued as follows:

“All workers of Caterpillar, Inc., Large Power Systems Division, including on-site leased workers from Gray Interplant Systems, Inc., ATS, URS, River City, GCA, Lozier, Obrien Bros., HK, FCA, and Clifton Gunderson, Mossville, Illinois, who became totally or partially separated from employment on or after July 6, 2008, through November 2, 2011, and all workers in the group threatened with total or partial separation from employment on the date of certification through two years from the date of certification, are eligible to apply for adjustment assistance under Chapter 2 of Title II of the Trade Act of 1974, as amended.”

Signed at Washington, DC this 4th day of October 2011.
Michael W. Jaffe,
Certifying Officer, Office of Trade Adjustment Assistance.

[FR Doc. 2011-27159 Filed 10-19-11; 8:45 am]

BILLING CODE P